NUCLEAR REGULATORY COMMISSION

10 CFR Part 50, 52, and 54

[NRC-2024-0091]

RIN 3150-AL15

Miscellaneous Corrections; Correction

AGENCY: Nuclear Regulatory Commission.

ACTION: Final rule; correction.

SUMMARY: The U.S. Nuclear Regulatory Commission (NRC) is correcting a final rule that was published in the Federal Register on July 16, 2024, regarding the amendment of NRC's regulations to make miscellaneous corrections to include clarifying language and correcting grammatical and typographical errors, punctuation, references, and terms. This action is necessary to correct an inadvertent error in the final rule.

DATES: The correction takes effect on August 15, 2024.

ADDRESSES: Please refer to Docket ID NRC-2024-0091 when contacting the NRC about the availability of information for this action. You may obtain publicly available information related to this action by any of the following methods:

• Federal Rulemaking Website: Go to https://www.regulations.gov and search for Docket ID NRC-2024-0091. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to pdr.resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Tricia Lizama, Office of Nuclear Material Safety and Safeguards, U.S. Nuclear Regulatory Commission, Washington, DC 20555-0001; telephone: 301-415-4110; email: TriciaDolores.Lizama@nrc.gov.

SUPPLEMENTARY INFORMATION: The NRC may post materials related to this document, including public comments, on the Federal rulemaking website at https://www.regulations.gov under Docket ID NRC-2024-0091. In addition, the Federal rulemaking website allows members of the public to receive alerts when changes or additions occur in a docket folder. To subscribe: (1) navigate to the docket folder (NRC-2024-0091); (2) click the “Subscribe” link; and (3) enter an email address and click on the “Subscribe” link.

Corrections

In FR Doc. 2024-15234, appearing on page 57717 in the Federal Register of Tuesday, July 16, 2024, the NRC makes the following corrections:

Preamble

1. On page 57718, in the first column, in the eighth paragraph, the sentence “This final rule amends § 52.110(e) to remove the incorrect reference to § 50.2 and the introductory text of § 52.110(f) to remove the incorrect reference to § 52.1, since neither reference contains a definition for “decommissioning activities.” is corrected to read “This final rule amends the introductory text of § 52.110(f) to remove the incorrect reference to § 52.1, since the reference does not contain a definition for “decommissioning activities.”

Regulatory Text

2. On page 57721, in the first column, amendatory instruction 20 for § 52.110 is corrected to read “In § 52.110, revise and republish paragraphs (f) and (h)(1) to read as follows:”

§ 52.110 [Corrected]

* * * * *

(f) Licensees shall not perform any decommissioning activities, that—

(1) Foreclose release of the site for possible unrestricted use;

(2) Result in significant environmental impacts not previously reviewed; or

(3) Result in there no longer being reasonable assurance that adequate funds will be available for decommissioning.

* * * * *

(h)(1) Decommissioning trust funds may be used by licensees if—

(i) The withdrawals are for expenses for legitimate decommissioning activities consistent with the definition of decommissioning in § 52.1;

(ii) The expenditure would not reduce the value of the decommissioning trust below an amount necessary to place and maintain the reactor in a safe storage condition if unforeseen conditions or expenses arise; and

(iii) The withdrawals would not inhibit the ability of the licensee to complete funding of any shortfalls in the decommissioning trust needed to ensure the availability of funds to ultimately release the site and terminate the license.

* * * * *

Dated: August 1, 2024.
For the Nuclear Regulatory Commission.
Krupskaya T. Castellon,
Acting Chief, Regulatory Analysis and Rulemaking Support Branch, Division of Rulemaking, Environmental, and Financial Support, Office of Nuclear Material Safety and Safeguards.

[FR Doc. 2024-17325 Filed 8-6-24; 8:45 am]

BILLING CODE 7590-01-P